DEPARTMENT OF LABOR

Agency Information Collection Activities; Submission for OMB Review; Comment Request, Evaluation of the American Apprenticeship Initiative, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Evaluation of Strategies Used in America's Promise Job Driven Grant Program Evaluation. A copy of the proposed Information Collection Request (ICR) can be obtained by contacting the office listed below in the addressee section of this notice.

DATES: Written comments must be submitted to the office listed in the addressee section below on or before December 31, 2018.

ADDRESSES: You may submit comments by either one of the following methods:

Email: ChiefEvaluationOffice@dol.gov; Mail or Courier: Megan Lizik, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Megan Lizik by email at ChiefEvaluationOffice@dol.gov, or call 202-430-1255.

SUPPLEMENTARY INFORMATION:

I. Background: The Chief Evaluation Office (CEO) of the U.S. Department of Labor (DOL) intends to design and conduct an evaluation to assess the success of the America's Promise Job Driven Grant Program (America's Promise). The goal of this project is to build knowledge about the effectiveness and implementation of the program. The evaluation of America's Promise includes two components: (1) An impact evaluation to measure the effects of America's Promise on participant outcomes and (2) an implementation evaluation to understand program implementation and partnership development for all 23 grantees. The implementation evaluation includes more detailed focus on program implementation in 12 grantees and a measurement of partnerships and systems change in six grantees. This request is part of a larger study which has had other components, a grantee survey and partner network survey, submitted for approval in an earlier clearance request. A 60-day notice to solicit public comments on that package was published in the Federal Register, 82 FR 32204 on July 12, 2017.

This Federal Register Notice provides the opportunity to comment on proposed data collection instruments that will be used in the implementation evaluation: Semi-structured program stakeholder interview protocols, participant focus group protocols, and semi-structured telephone interview protocols

1. Semi-structured program stakeholder interview protocols. Site visits to approximately 12 grantees will occur in fall 2019. These visits will last two and a half days each. During these site visits, we will conduct one-on-one or small-group semi-structured interviews with a broad range of stakeholders, including grantee staff, partner staff, employers, training and education providers, and community stakeholders. We will also observe program activities to help us describe key program components, assess the quality of program delivery, and understand participant needs. The observations will not involve additional burden.

2. Participant focus group protocols. Also during the site visits, we will conduct one focus group per site with approximately five program participants.

3. Semi-structured telephone interview protocols. For approximately 11 sites that do not receive in-person visits, we will conduct about two-hour in-depth telephone interviews with grantee managers and partners to cover a subset of the information collected in the site visits. The information requested from these phone calls may be tailored to the circumstances of each grantee.

II. Desired Focus of Comments: Currently, the Department of Labor is soliciting comments concerning the above data collection for the Evaluation of Strategies Used in the America's Promise Job Driven Grant Program Evaluation. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for the semi-structured program stakeholder interview protocols, participant focus group protocols, and semi-structured telephone interview protocols.

Type of Review: New information collection request.

OMB Control Number: 1290-0NEW.

Affected Public: America's Promise Job Driven Grant Program Evaluation grantees, partners and participants.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Semi-structured program stakeholder interview protocol | ¹ 40 | 1 | 40 | 1.5 | 60
Participant focus group protocol | ² 20 | 1 | 20 | 1.5 | 30
Semi-structured telephone interview protocol | ³ 15 | 1 | 15 | 2 | 30
Total | 75 |  | 75 |  | 120
¹ Assumes approximately 10 semi-structured interview participants during each site visit at approximately 12 grantees: 5 program staff members and 5 program partners over the three-year clearance period.
² Assumes approximately 5 program participants at each focus group for approximately 12 grantees over the three-year clearance period.
³ Assumes approximately 4 telephone participants per approximately 11 grantees: 2 program staff members and 2 program partners over the three-year clearance period.

Molly Irwin,
Chief Evaluation Officer, U.S. Department of Labor.

[FR Doc. 2018-23703 Filed 10-31-18; 8:45 am]

BILLING CODE 4510-HX-P